ENVIRONMENTAL PROTECTION AGENCY

[EPA-HQ-OAR-2024-0505; FRL-12806-01-OAR]

RIN 2060-AW23

Public Hearing for Renewable Fuel Standard (RFS) Program: Standards for 2026 and 2027, Partial Waiver of 2025 Cellulosic Biofuel Volume Requirement, and Other Changes

AGENCY: Environmental Protection Agency (EPA).

ACTION: Notice: public hearing.

SUMMARY: The Environmental Protection Agency (EPA) is announcing a virtual public hearing to be held on July 8, 2025, on its proposal for the “Renewable Fuel Standard (RFS) Program: Standards for 2026 and 2027, Partial Waiver of 2025 Cellulosic Biofuel Volume Requirement, and Other Changes,” which was announced on June 13, 2025. An additional session will be held on July 9, 2025, if necessary, to accommodate the number of testifiers that sign-up to testify.

DATES: EPA will hold a virtual public hearing on July 8, 2025. An additional session will be held on July 9, 2025, if necessary, to accommodate the number of testifiers that sign-up to testify. Please refer to the SUPPLEMENTARY INFORMATION section for additional information on the public hearing.

ADDRESSES: The virtual public hearing will begin at 9:00 a.m. Eastern Time (ET) each day and end when all parties who wish to speak have had an opportunity to do so, but no later than 5 p.m. ET. All hearing attendees (including even those who do not intend to provide testimony) should register for the virtual public hearing by July 1, 2025. Information on how to register can be found at https://www.epa.gov/renewable-fuel-standard-program/proposed-renewable-fuel-standards-2026-and-2027. Additional information regarding the hearing appears below under SUPPLEMENTARY INFORMATION.

FOR FURTHER INFORMATION CONTACT: Nick Parsons, Assessment and Standards Division, Office of Transportation and Air Quality, Environmental Protection Agency, 2000 Traverwood Drive, Ann Arbor, MI 48105; telephone number: 734-214-4479; email address: RFS-Hearing@epa.gov.

SUPPLEMENTARY INFORMATION: EPA is proposing to establish the 2026 and 2027 applicable volumes and corresponding percentage standards for cellulosic biofuel, biomass-based diesel, advanced biofuel, and total renewable fuel. EPA is also proposing to partially waive the 2025 cellulosic biofuel volume requirement and revise the associated percentage standard due to a shortfall in cellulosic biofuel production. Finally, EPA is proposing several regulatory changes to the RFS program, including reducing the number of Renewable Identification Numbers (RINs) generated for imported renewable fuel and renewable fuel produced from foreign feedstocks and removing renewable electricity as a qualifying renewable fuel under the RFS program (eRINs). The “RFS Program: Standards for 2026 and 2027, Partial Waiver of 2025 Cellulosic Biofuel Volume Requirement, and Other Changes” proposal was announced on June 13, 2025, and will be published separately in the Federal Register. The pre-publication version is available at https://www.epa.gov/renewable-fuel-standard-program/proposed-renewable-fuel-standards-2026-and-2027.

Participation in Virtual Public Hearing

Information on how to register for the virtual public hearing can be found at https://www.epa.gov/renewable-fuel-standard-program/proposed-renewable-fuel-standards-2026-and-2027. The last day to pre-register to speak at the hearing is July 1, 2025. Please note that any updates made to any aspect of the hearing will be posted online at https://www.epa.gov/renewable-fuel-standard-program/proposed-renewable-fuel-standards-2026-and-2027. While EPA expects the hearing to go forward as set forth above, please monitor the website or contact the person listed in the FOR FURTHER INFORMATION CONTACT section to determine if there are any updates. EPA does not intend to publish a document in the Federal Register announcing updates.

Each commenter will have 3 minutes to provide oral testimony. EPA may ask clarifying questions during the oral presentations, but will not respond to the presentations at that time. Written statements and supporting information submitted during the comment period will be considered with the same weight as oral comments and supporting information presented at the public hearing.

If you require the services of a translator or special accommodations such as audio description, please pre-register for the hearing and describe your needs by July 1, 2025. EPA may not be able to arrange accommodations without advance notice.

How can I get copies of the proposed action and other related information?

EPA has established a docket for this action under Docket ID No. EPA-HQ-OAR-2024-0505. EPA has also developed a website for the RFS program, including the proposal, which is available at https://www.epa.gov/renewable-fuel-standard-program/proposed-renewable-fuel-standards-2026-and-2027. Please refer to the notice of proposed rulemaking for detailed information on accessing information related to the proposal.

Sarah Dunham,
Director, Office of Transportation and Air Quality.

[FR Doc. 2025-11127 Filed 6-16-25; 8:45 am]

BILLING CODE 6560-50-P